SMALL BUSINESS ADMINISTRATION

Administrator's Line of Succession Designation, No. 1-A, Revision 25

This document replaces and supercedes “Line of Succession Designation No. 1-A, Revision 24.”.

Line of Succession Designation No. 1-A, Revision 25

Effective immediately, the Administrator's Line of Succession Designation is as follows:

(a) If I am absent from the office, I hereby designate the officials in listed order below to serve as Acting Administrator with full authority to perform all acts and functions which the Administrator is authorized to perform:

(1) Chief of Staff

(2) Counselor to the Administrator

(b) An individual serving in acting capacity in any of the positions listed in paragraph (a) but not acting by designation of the Administrator is not also included in this Line of Succession. Instead, the next official on the list shall serve as Acting Administrator.

(c) This designation shall remain in full force and effect until revoked or superceded in writing by the Administrator.

(d) Serving as Acting Administrator has no effect on the officials listed in paragraph (a), above, with respect to their current authorities, duties and responsibilities (except that such official cannot both recommend and approve an action).

Dated: August 3, 2001.
Hector V. Barreto,
Administrator.

[FR Doc. 01-19899 Filed 8-7-01; 8:45 am]

BILLING CODE 8025-01-P